OFFICE OF THE UNITED STATES TRADE REPRESENTATIVE

[Docket No. USTR-2020-0023]

Amendment To Review of Action: Enforcement of U.S. WTO Rights in Large Civil Aircraft Dispute

AGENCY: Office of the United States Trade Representative.

ACTION: Amendment.

SUMMARY: This notice amends an annex to the notice published on June 26, 2020, which requested public comments in connection with a review of the action being taken in the Section 301 investigation involving the enforcement of U.S. World Trade

Organization (WTO) rights in the Large Civil Aircraft dispute. The amendment adds two products to Annex III that were inadvertently omitted.

FOR FURTHER INFORMATION CONTACT: For questions about the investigation, contact Associate General Counsel Megan Grimball at (202) 395-5725, or Director for Europe Michael Rogers at (202) 395-3320. For questions on customs classification of products identified in the annexes to this notice, contact Traderemedy@cbp.dhs.gov.

SUPPLEMENTARY INFORMATION: In a notice published on June 26, 2020 (85 FR 38488), the Office of United States Trade Representative invited comments with respect to the maintenance or imposition of additional duties on specific products of specific current or former EU member States. Annex III to the June 26 notice includes a list of 30 products of France, Germany, Spain, or the United Kingdom under consideration for increased duties. Two products were inadvertently omitted. This notice amends Annex III by adding the following two products of France, Germany, Spain or the United Kingdom:

2007.99.05 Lingonberry and raspberry jams

2007.99.10 Strawberry Jam

Joseph Barloon,
General Counsel, Office of the United States Trade Representative.

[FR Doc. 2020-14209 Filed 6-30-20; 8:45 am]

BILLING CODE 3290-F8-P